DEPARTMENT OF HEALTH AND HUMAN SERVICES

Centers for Disease Control and Prevention

Cooperative Research and Development Agreement

AGENCY: Centers for Disease Control and Prevention (CDC), Department of Health and Human Services (HHS).

ACTION: Notice.

SUMMARY: The Centers for Disease Control and Prevention (CDC) National Immunization Program (NIP) is seeking a Cooperative Research and Development Agreement (CRADA) partner for collaboration in the development of a Vaccine Management Software (VACMAN) dynamic link library (DLL) component to interface with immunization information systems. The current DLL is compatible to VACMAN version 2.6x and will not be compatible when VACMAN is upgraded to version 3.

Because CRADAs are designed to facilitate the development of scientific and technological knowledge into useful, marketable products, a great deal of freedom is given to Federal agencies in implementing collaborative research. The CDC may accept staff, facilities, equipment, supplies, and money from the other participants in a CRADA; CDC may provide staff, facilities, equipment, and supplies to the project. CDC may not provide funds to the other participants in a CRADA. This opportunity is available until 30 days after publication of this notice in the Federal Register. Respondents may be provided a longer period of time to furnish additional information if CDC finds this necessary.

FOR FURTHER INFORMATION CONTACT:

Technical: Terry Boyd, Data Management Division, National Immunization Program, Centers for Disease Control and Prevention (CDC), 1600 Clifton Rd., NE., Mailstop E-62, Atlanta, GA 30333, telephone (404) 639-8584.

Business: Janet Kelly, Data Management Division, National Immunization Program, Centers for Disease Control and Prevention (CDC), 1600 Clifton Rd., NE., Mailstop E-62, Atlanta, GA 30333, telephone (404) 639-8735.

SUPPLEMENTARY INFORMATION: The VACMAN application was developed by the CDC NIP and is used by CDC Immunization Grant programs to purchase vaccines through a Vaccine Ordering and Distribution System. The VACMAN DLL interface component allows immunization information systems to interface with VACMAN.

The CDC/NIP Development Team will work with respondent to develop and promote a product that will support VACMAN connectivity with immunization information systems and other applications that might exist on different operating systems. Respondent will be given access to VACMAN 3 database specifications and business rules. Respondent will maintain the code such that it is constantly kept updated accordingly as changes in the VACMAN product occurs. CDC/NIP requires the use of the source code and free distribution rights for the object code, which may include vendors, to ensure all available products can interact with VACMAN consistently and that all Grant programs have the opportunity to integrate VACMAN with their other processes for properly managing their vaccines.

Applicant submissions will be judged according to the following criteria:

1. Evidence of expertise in software development and supporting data (e.g., resumes) of qualifications for the principle investigator who would be involved in the CRADA.

2. Specific operating systems and development languages proposed for development of the DLL.

3. Evidence of commitment for development to release to Grant programs, including vendors, the compiled components along with all appropriate documentation such as Application Program Interface documentation.

With respect to Government Intellectual Property (IP) rights to any invention not made solely by a CRADA partner's employees for which a patent or other IP application is filed, CDC has the authority to grant to the CRADA partner an exclusive option to elect an exclusive or nonexclusive commercialization license. This option does not apply to inventions conceived prior to the effective date of a CRADA that are reduced to practice under the CRADA, if prior to that reduction to practice, CDC has filed a patent application on the invention and has licensed it or offered to license it to a third party. The terms of the license will fairly reflect the nature of the invention, the relative contributions of the Parties to the invention and the CRADA, the risks incurred by the CRADA partner and the costs of subsequent research and development needed to bring the invention to the marketplace. The field of use of the license will be commensurate with the scope of the Research Plan.

This CRADA is proposed and implemented under the 1986 Federal Technology Transfer Act: Public Law 99-502, as amended.

The responses must be made to: Lisa Blake-DiSpigna, Technology Development Coordinator, National Center for Infectious Diseases, Centers for Disease Control and Prevention (CDC), 1600 Clifton Rd. NE., Mailstop C-19, Atlanta, GA 30333.

Dated: February 21, 2003.
Joseph R. Carter,
Associate Director for Management and Operations, Centers for Disease Control and Prevention (CDC).

[FR Doc. 03-4599 Filed 2-26-03; 8:45 am]

BILLING CODE 4163-18-P